DEPARTMENT OF AGRICULTURE

Food and Nutrition Service

Agency Information Collection Activities: Proposed Collection; Comment Request—Understanding the Rates, Causes, and Costs of Churning in the Supplemental Nutrition Assistance Program (SNAP)

AGENCY: Food and Nutrition Service (FNS), USDA.

ACTION: Notice.

SUMMARY: In accordance with the Paperwork Reduction Act of 1995, this notice invites the general public and other public agencies to comment on this proposed information collection. This collection is a new collection for research on the rates, causes, and costs of churning in SNAP.

DATES: Written comments must be received on or before February 21, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Office of Research and Analysis, Food and Nutrition Service, U.S. Department of Agriculture, 3101 Park Center Drive, Room 1014, Alexandria, VA 22302. Comments may also be submitted via fax to the attention of Steven Carlson at (703) 305-2576 or via email to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at (703) 305-2017. Information requests submitted through email should refer to the title of this proposed collection and/or the OMB approval number in the subject line.

SUPPLEMENTARY INFORMATION:

Title: Understanding the Rates, Causes, and Costs of Churning in SNAP.

Form Number: [If applicable, insert number].

OMB Number: 0584-NEW.

Expiration Date: [Insert date or Not Yet Determined].

Type of Request: New collection.

Abstract: The Supplemental Nutrition Assistance Program (SNAP, formerly known as the Food Stamp Program) is the U.S. Department of Agriculture's (USDA's) largest nutrition program, enabling millions of low-income Americans to purchase groceries. It served an average of 40.3 million people per month in Fiscal Year 2010, growing from 17.1 million in Fiscal Year 2000.

The program is designed to respond to broad economic and individual circumstances as they change over time. For this reason, households move on and off the program as they become benefit-eligible and then lose eligibility because of changing income and household circumstances. A new job, a reduction in work hours, the addition of a household member, someone moving out, or other changes in household income or composition can affect eligibility and lead naturally to program entry and exit.

There are also times, however, when households leave the program despite remaining eligible. Eligible households not receiving SNAP benefits are of concern to the program because of their reduced access to nutritious foods.

The Office of Research and Analysis (ORA) in USDA's Food and Nutrition Service (FNS) has undertaken a study on the causes and costs of churning in SNAP. Churning occurs when a SNAP participant leaves the program and returns within a short period of time, defined here as four months or less. Churning is a policy concern because of its presumed adverse effects on participants and on the administering agencies. When churn occurs, agency staff must re-collect paperwork and re-complete the application process for households whose eligibility may not have changed since they left the program and who thus may have incurred a loss of benefits. The study seeks to better understand (1) the rates and patterns of churning; (2) why participants churn; (3) what happens administratively when a participant returns to SNAP after a brief spell of non-receipt, and (4) the costs of churn to both programs and participants.

The study includes a quantitative research component involving the use of administrative data in six states and a qualitative research component involving on-site staff interviews and participant focus groups in six study sites. At each of the six sites, hour-long semi-structured interviews will be conducted with state and local SNAP administrators, SNAP caseworkers, and directors of community-based organizations involved with SNAP outreach. Also at each site, two focus groups will be conducted with SNAP participants who have experienced churn. Each group will consist of five individuals and will last one hour. Recruitment for each focus group will require three-minute telephone calls to ten individuals.

Affected Public: (State, Local, Tribal Government, Business (Not-for-Profit), Individual/Households).

Respondent groups identified include: (1) SNAP administrators; (2) SNAP caseworkers; (3) directors of community-based organizations; (4) SNAP participants—attempted focus groups; and (5) SNAP participants—completed focus groups.

Estimated Number of Respondents: The total estimated number of respondents is 234. This includes: (1) 12 SNAP administrators; (2) 30 SNAP caseworkers; (3) 12 directors of community-based organizations; (4) 180 SNAP participants recruited (120 SNAP participants—attempted focus groups; and (5) 60 SNAP participants—completed focus groups.)

Estimated Number of Responses per Respondent: Each respondent will be asked to participate in one interview, telephone call, or focus group.

Estimated Total Annual Responses: 234.

Estimated Time per Response: 38.5 minutes (0.64 hours). The estimated time of response varies from 3 minutes to 60 minutes depending on the respondent group, as shown in the table below.

Estimated Total Annual Burden on Respondents: 7,380 minutes (123 hours). See the table below for estimated total annual burden for each type of respondent.

Reporting Burden
(a) Affected public | Respondent type | (b) Survey instruments | (c) Number respondents | (d) Frequency of response | (e) Est. total annual responses per respondent (c × d) | (f) Hours per response | (g) Total burden hours (e × f)
State, Local and Tribal Agencies | SNAP Administrators | interview | 12.00 | 1.00 | 12.00 | 1.00 | 12.00
| SNAP Caseworkers | interview | 30.00 | 1.00 | 30.00 | 1.00 | 30.00
Subtotal |  |  | 42.00 | 1.00 | 42 |  | 42.00
Individuals & Households | SNAP Participants | Recruited—Declined | 120.00 | 1.00 | 120.00 | 0.05 | 6.00
|  | Recruited—Accepted | 60 | 1.00 | 60 | 0.05 | 3.00
|  | Focus Group | 60.00 | 1.00 | 60.00 | 1 | 60
Subtotal |  |  | 180.00 | 1.00 | 180.00 | — | 69.00
Business (not-for-profit) | Directors of community-based organizations | interview | 12.00 | 1.00 | 12.00 | 1.00 | 12.00
Grand Total |  |  | 234.00 |  | 234.00 |  | 123.00

December 15, 2011.
Audrey Rowe,
Administrator, Food and Nutrition Service.

[FR Doc. 2011-32799 Filed 12-21-11; 8:45 am]

BILLING CODE 3410-30-P